DEPARTMENT OF COMMERCE

International Trade Administration

(A-489-501)

Notice of Final Results of Antidumping Duty New Shipper Review: Certain Welded Carbon Steel Pipe and Tube from Turkey

AGENCY: Import Administration, International Trade Administration, U.S. Department of Commerce.

SUMMARY: On April 26, 2006, the Department of Commerce (“the Department”) published the preliminary results of its new shipper review of the antidumping duty order on certain welded carbon steel pipe and tube (“welded pipe and tube”) from Turkey. This review covers one producer/exporter of the subject merchandise. The period of review (“POR”) is May 1, 2004, through April 30, 2005. On June 2, 2006, we received a case brief from petitioner.¹ On June 9, 2006, we received a rebuttal brief from respondent.² Based on the Department's analysis of the issues, these final results have not changed from the preliminary results. The final results are listed in the section below entitled “Final Results of Review.”

¹ The petitioners are Allied Tube and Conduit Corporation, IPSCO Tubulars, Inc., Sharon Tube Company, and Wheatland Tube Company (collectively, “petitioner”).

² The respondent is Toscelik Profil ve Sac Endustrisi A.S., Toscelik Metal Ticaret A.S., and its affiliated export trading company, Tosyali Dis Ticaret A.S. (collectively, “Toscelik”).

EFFECTIVE DATE: August 1, 2006.

FOR FURTHER INFORMATION CONTACT: Victoria Cho or George McMahon, AD/CVD Operations, Office 3, Import Administration, International Trade Administration, U.S. Department of Commerce, 14th Street and Constitution Avenue, NW, Washington, DC 20230; telephone: (202) 482-5075, or (202) 482-1167, respectively.

SUPPLEMENTARY INFORMATION:

Background

On May 3, 2006, the Department published in the Federal Register the preliminary results of this new shipper review and invited interested parties to comment on those results.³ Consequently, the Department received comments from petitioner and respondent. However, the Department did not receive a request for a hearing from interested parties.

³ See Notice of Preliminary Results of Antidumping Duty New Shipper Review: Certain Welded Carbon Steel Pipe and Tube from Turkey, 71 FR 26043 (May 3, 2006) (“Preliminary Results”).

Scope of the Order

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Analysis of Comments Received

All issues raised in the case and rebuttal briefs by parties to this review are addressed in the “Issues and Decision Memorandum for the Final Results of the New Shipper Review of the Antidumping Duty Order on Certain Welded Carbon Steel Pipe and Tube from Turkey” from Stephen J. Claeys, Deputy Assistant Secretary for Import Administration, to David M. Spooner, Assistant Secretary for Import Administration, dated July 25, 2006 (“Decision Memorandum”), which is hereby adopted by this notice.

A list of the issues which parties have raised and to which we have responded, all of which are addressed in the Decision Memorandum, is attached to this notice as an Appendix. Parties can find a complete discussion of all issues raised in this review and the corresponding recommendation in the Decision Memorandum, which is on file in the Central Records Unit, room B-099 of the main Department of Commerce building.

In addition, a complete version of the Decision Memorandum can be accessed directly on the Internet at http://ia.ita.doc.gov/frn. The paper copy and electronic version of the Decision Memorandum are identical in content.

Fair Value Comparisons

We calculated export price (“EP”) and normal value (“NV”) based on the same methodology used in the preliminary results.

Cost of Production

We calculated the cost of production (“COP”) for the merchandise based on the same methodology used in the preliminary results.

Final Results of Review

As a result of our review, we determine that the following weighted-average percentage margins exist for the period May 1, 2004, through April 30, 2005:

Manufacturer/Exporter | Margin (percent)
Toscelik Profil ve Sac Endustrisi A.S., Toscelik Metal Ticaret A.S., and its affiliated export trading company, Tosyali Dis Ticaret A.S. | 0.00 percent

Assessment

The Department will determine, and U.S. Customs and Border Protection (“CBP”) shall assess, antidumping duties on all appropriate entries, pursuant to 19 CFR 351.212(b). The Department calculated importer-specific duty assessment rates on the basis of the ratio of the total amount of antidumping duties calculated for the examined sales to the total entered value of the examined sales for that importer. In accordance with 19 CFR 351.106(c)(2), we will instruct CBP to liquidate without regard to antidumping duties, all entries of subject merchandise during the POR for which the importer-specific assessment rate is zero or de minimis. The Department will issue appropriate assessment instructions directly to CBP within 15 days of publication of these final results of review.

Cash Deposits Requirements

Bonding will no longer be permitted to fulfill security requirements for shipments from Toscelik of subject merchandise from Turkey entered, or withdrawn from warehouse, for consumption in the United States on or after the publication of this notice in the Federal Register. The following cash deposit rates shall be required for merchandise subject to the order entered, or withdrawn from warehouse, for consumption on or after the publication date of these final results for this new shipper review, as provided for by section 751(a)(1) of the Act, as amended: (1) The cash deposit rates for Toscelik (i.e., for subject merchandise both manufactured and exported by Toscelik) will be zero; (2) the cash deposit rate for exporters who received a rate in a prior segment of the proceeding will continue to be the rate assigned in that segment of the proceeding; (3) the cash deposit rate for entries of subject merchandise exported by Toscelik but not manufactured by Toscelik will continue to be the “All Others” rate (i.e., 14.74 percent) or the rate applicable to the manufacturer, if so established; and (4) if neither the exporter nor the producer is a firm covered in this review or a prior segment of the proceeding, the cash deposit rate will be 14.74 percent, the “All Others” rate established in the less-than-fair-value investigation. These deposit requirements shall remain in effect until publication of the final results of the next administrative review. There are no changes to the rates applicable to any other companies under this antidumping duty order.

This notice also serves as a final reminder to importers of their responsibility under 19 CFR 351.402(f) to file a certificate regarding the reimbursement of antidumping and countervailing duties prior to liquidation of the relevant entries during this review period. Failure to comply with this requirement could result in the Secretary's presumption that reimbursement of antidumping and countervailing duties occurred, and in the subsequent assessment of antidumping duties increased by the amount of antidumping and/or countervailing duties reimbursed.

This notice also is the only reminder to parties subject to administrative protective order (“APO”) of their responsibility concerning the return/destruction or conversion to judicial protective order of proprietary information disclosed under APO in accordance with 19 CFR 351.305(a)(3). Failure to comply is a violation of the APO.

This determination is issued and published in accordance with sections 751(a)(1) and 777(i)(1) of the Act.

Dated: July 25, 2006.
David M. Spooner,
Assistant Secretary for Import Administration.

APPENDIX

List of Comments in the Issues and Decision Memorandum

Comment 1: Bona Fides of Toscelik's U.S. Sale

[FR Doc. E6-12372 Filed 7-31-06; 8:45 am]

BILLING CODE 3510-DS-S